OFFICE OF PERSONNEL MANAGEMENT

Proposed Collection; Comment Request for Review of a New Information Collection: Specific Medical Release (INV 16A) and Customer Consent and Authorization for Access to Financial Records (INV 16B)

AGENCY: U.S. Office of Personnel Management.

ACTION: Notice.

SUMMARY: In accordance with the Paperwork Reduction Act of 1995 (Pub. L. 104-13, May 22, 1995), this notice announces that the Office of Personnel Management (OPM) intends to submit to the Office of Management and Budget (OMB) a request for review of a NEW information collection. The INV 16A, Specific Medical Release, and INV 16B, Authorization for Access to Financial Records, are used continuously by Federal and contract investigators as a routine part of background investigations. The collection is completed when it is determined that further inquiry into the respondents' medical record is needed pertaining to mental health counseling and/or drug/alcohol treatment OR upon an affirmative answer on the Standard Form (SF) 86 or SF 85PS regarding mental health. The Customer Consent and Authorization for Access to Financial Records (INV 16B) is used by Federal agencies when conducting a credit inquiry on federal and contract employees, as well as military personnel, who are working in support of Federal Government programs and contracts. The INV 16A and INV 16B will replace current forms OFI 16A; OPM Form 329; OPM Form 329-A; OPM Form 329-B; and OPM 329-C. Previous editions of related forms are not usable.

Comments Are Particularly Invited On:

• Whether this information is necessary for the proper performance of functions of the OPM and its Federal Investigative Services Division, which administers background investigations;

• Whether our estimate of the public burden of this collection of information is accurate, and based on valid assumptions and methodology;

• Ways in which we can minimize the burden of the collection of information on those who are to respond, through the use of appropriate technological collection techniques or other forms of information technology; and

• Ways in which we can enhance the quality, utility, and clarity of the information to be collected.

The INV 16A and INV 16B are completed by both employees of the Federal Government and individuals not employed with the Federal Government, including Federal contractors, and military personnel.

Federal employees are defined as those individuals who are employed as civilians or military personnel with the Federal Government. Non-Federal employees include members of the general public and all individuals employed as Federal and military contractors, or individuals otherwise not directly employed by the Federal Government.

Approximately 45,500 INV 16A and 210,000 INV 16B forms will be completed annually by non-Federal individuals. Each form requires approximately 5 minutes to complete. The annual estimated burden is 3,800 and 17,500 hours for the 16A and 16B respectively.

For copies of this proposal, contact Mary Beth Smith-Toomey on (202) 606-8358, FAX (202) 418-3251 or via E-mail to mbtoomey@opm.gov. Please include a mailing address with your request.

DATES: Comments on this proposal should be received within 60 calendar days from the date of this publication.

ADDRESSES: Send or deliver comments to—Kathy Dillaman, Associate Director, Federal Investigative Services Division, U.S. Office of Personnel Management, 1900 E Street, NW., Room 5416, Washington, DC 20415.

For Information Regarding Administrative Coordination—Contact: Mary-Kay Brewer, Program Analyst, Standards and Evaluations Group, Federal Investigative Services Division, U.S. Office of Personnel Management, (202) 606-1835.

U.S. Office of Personnel Management.
Howard Weizmann,
Deputy Director.

[FR Doc. E8-9748 Filed 5-2-08; 8:45 am]

BILLING CODE 6325-53-P